DEPARTMENT OF JUSTICE

Notice of Lodging of Consent Decree Under the Clean Water Act

Under 28 CFR 50.7, notice is hereby given that on September 30, 2004, a proposed Consent Decree in United States and State of Texas v. City of Plainview, Civil Action No. 5-04CV0218-C was lodged with the United States District Court for the Northern District of Texas.

In this action the United States sought civil penalties and injunctive relief for violations of Sections 301, 309 and 402 of the Clean Water Act (“the Act”), 33 U.S.C. 1311, 1319, and 1342, and for violations of the City's National Pollutant Discharge Elimination System (“NPDES”) permit for the City's publicly owned wastewater treatment works (“POTW”), located in Plainview, Texas. The Consent Decree settles the claims that the city violated the Act and its NPDES permit by: (1) Discharging pollutants in excess of the effluent limitations specified in its NPDES permit; (2) failing to comply with the final effluent limitations specified for Ammonia-Nitrogen by March 1, 2000; and (3) failing to operate and maintain its POTW as required by the permit. The Consent Decree requires that the City pay a $75,000 civil penalty to the federal government. The Consent Decree also requires that the City implement and comply with a comprehensive Management, Operation and Preventative Maintenance Program for its POTW during the term of the Consent Decree, and provide quarterly and annual reports to the EPA with copies to the State of Texas.

The Department of Justice will receive for a period of thirty (30 days from the date of this publication comments relating to the Consent Decree. Comments should be addressed to the Assistant Attorney General, Environment and Natural Resources Division, P.O. Box 7611, U.S. Department of Justice, Washington, DC 20044-7611, and should refer to United States and State of Texas v. City of Plainview, D.J. Ref. 90-5-1-1-07661.

The Consent Decree may be examined at the Office of the United States Attorney, Northern District of Texas, 1205 Texas Avenue, Suite 700, Lubbock, Texas 79401, and at U.S. EPA Region 6, 1445 Ross Avenue, Dallas, Texas 75202. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.00 (25 cents per page reproduction cost) payable to the U.S. Treasury.

Thomas A. Mariani, Jr.,
Assistant Chief, Environmental Enforcement Section, Environment and Natural Resources Division.

[FR Doc. 04-23096 Filed 10-13-04; 8:45 am]

BILLING CODE 4410-15-M